DEPARTMENT OF LABOR

Occupational Safety and Health Administration

[Docket No. OSHA-2009-0026]

Bureau Veritas Consumer Products Services, Inc.: Application for Expansion of Recognition

AGENCY: Occupational Safety and Health Administration (OSHA), Labor.

ACTION: Notice.

SUMMARY: In this notice, OSHA announces the application of Bureau Veritas Consumer Products Services, Inc. for expansion of the scope of recognition as a Nationally Recognized Testing Laboratory (NRTL) and presents the agency's preliminary finding to grant the application.

DATES: Submit comments, information, and documents in response to this notice, or requests for an extension of time to make a submission, on or before March 10, 2021.

ADDRESSES: Comments may be submitted as follows:

Electronically: You may submit comments, including attachments, electronically at http://www.regulations.gov, the Federal eRulemaking Portal. Follow the online instructions for submitting comments.

OSHA will place comments and requests for a hearing, including personal information, in the public docket, which will be available online. Therefore, OSHA cautions interested parties about submitting personal information such as Social Security numbers and birthdates.

Docket: To read or download comments or other material in the docket, go to http://www.regulations.gov. Documents in the docket are listed in the http://www.regulations.gov index; however, some information (e.g., copyrighted material) is not publicly available to read or download through this website. All submissions, including copyrighted material, are available for inspection through the OSHA Docket Office. Contact the OSHA Docket Office for assistance in locating docket submissions.

Instructions: All submissions must include the agency name and OSHA docket number (OSHA-2009-0026). All comments, including any personal information you provide, are placed in the public docket without change, and may be made available online at http://www.regulations.gov.

Extension of comment period: Submit requests for an extension of the comment period on or before March 10, 2021 to the Office of Technical Programs and Coordination Activities, Directorate of Technical Support and Emergency Management, Occupational Safety and Health Administration, U.S. Department of Labor, 200 Constitution Avenue NW, Room N-3655, Washington, DC 20210, or by fax to (202) 693-1644.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2110 or email: robinson.kevin@dol.gov.

SUPPLEMENTARY INFORMATION:

I. Notice of the Application for Expansion

OSHA is providing notice that Bureau Veritas Consumer Product Services, Inc. (BVCPS), is applying for expansion of recognition as a NRTL. BVCPS requests the addition of two recognized testing sites and twenty-two test standards to the NRTL scope of recognition.

OSHA recognition of a NRTL signifies that the organization meets the requirements specified in 29 CFR 1910.7. Recognition is an acknowledgment that the organization can perform independent safety testing and certification of the specific products covered within the scope of recognition. Each NRTL's scope of recognition includes (1) the type of products the NRTL may test, with each type specified by the applicable test standard; and (2) the recognized site(s) that has/have the technical capability to perform the product-testing and product-certification activities for test standards within the NRTL's scope. Recognition is not a delegation or grant of government authority; however, recognition enables employers to use products approved by the NRTL to meet OSHA standards that require product testing and certification.

The agency processes applications by a NRTL for initial recognition and for an expansion or renewal of this recognition, following requirements in Appendix A to 29 CFR 1910.7. This appendix requires that the agency publish two notices in the Federal Register in processing an application. In the first notice, OSHA announces the application and provides a preliminary finding. In the second notice, the agency provides the final decision on the application. These notices set forth the NRTL's scope of recognition or modifications of that scope. OSHA maintains an informational web page for each NRTL, including BVCPS, which details the NRTL's scope of recognition. These pages are available from the OSHA website at: http://www.osha.gov/dts/otpca/nrtl/index.html.

BVCPS currently has one facility (site) recognized by OSHA for product testing and certification, with headquarters located at: Bureau Veritas Consumer Products Services, Inc., One Distribution Circle, Suite #1, Littleton, MA 01460. A complete list of BVCPS's scope of recognition is available at: https://www.osha.gov/dts/otpca/nrtl/csl.html.

II. General Background on the Application

BVCPS submitted an application, dated June 28, 2018 (OSHA-2009-0026-0084), to expand recognition to include the addition of two recognized testing and certification sites. BVCPS amended this application on May 20, 2020, to include the addition of twenty-two recognized test standards. The first site is located at: Bureau Veritas Consumer Products Services (H.K.) Ltd. Taoyuan Branch, No. 19, Hwa Ya 2nd Rd., Wen Hwa Vil., Kewi Shan Dist., Taoyuan City, Taiwan. The second site is located at: LCIE China Company Limited, Building 4, No. 518, Xin Zhuan Road, CaoHejiing Songjiang High-Tech Park, Shanghai, 201612 China. One of the standards requested in the application, UL 962, is already included in BVCPS's current NRTL scope of recognition and will not be considered in this notice. OSHA staff performed on-site reviews of BVCPS's Shanghai China testing facility on February 27-28, 2019, and BVCPS Taoyuan Branch's testing facility on March 5-6, 2019, in which the assessors found some non-conformances with the requirements of 29 CFR 1910.7. BVCPS addressed these non-conformances satisfactorily, and OSHA has made a preliminary decision to approve the application.

Table 1 below lists the appropriate test standards found in BVCPS's application to expand BVCPS's NRTL scope of recognition for testing and certification of products under the NRTL Program.

Table 1—Proposed List of Appropriate Test Standards for Inclusion in BVCPS's NRTL Scope of Recognition
Test standard | Test standard title
UL 1081 | Electric Swimming Pools Pumps, Filters and Chlorinators.
UL 1450 | Motor-Operated Air Compressors, Vacuum Pumps and Painting Equipment.
UL 1563 | Electric Spas, Equipment Assemblies and Associated Equipment.
UL 60335-2-24 | Household Refrigerators and Freezers.
UL 471 | Commercial Refrigerators and Freezers.
UL 484 | Room Air Conditioners.
UL 60335-2-40 | Household and Similar Electrical Appliances, Part 2: Particular Requirements for Electrical Heat Pumps, Air-Conditioners and Dehumidifiers.
UL 778 | Motor-Operated Water Pumps.
UL 859 | Personal Grooming Appliance.
UL 867 | Electrostatic Air Cleaners.
UL 1598C | Light Emitting Diode (LED) Retrofit Luminaire Conversion Kit.
UL 1838 | Low Voltage Landscape Lighting Systems.
UL 2108 | Low Voltage Lighting Systems.
UL 60745-2-13 | Particular Requirements for Chain Saws.
UL 60745-2-14 | Particular Requirements for Planers.
UL 60745-2-15 | Particular Requirements Hedge Trimmers.
UL 60745-2-16 | Particular Requirements for Tackers.
UL 60745-2-17 | Particular Requirements for Routers and Trimmers.
UL 60745-2-22 | Particular Requirements for Cut-Off Machines.
UL 60745-2-8 | Particular Requirements for Shears and Nibblers.
UL 60745-2-9 | Particular Requirements for Tappers.

III. Preliminary Findings on the Application

BVCPS submitted an acceptable application for expansion of the scope of recognition. OSHA's review of the application file and pertinent documentation indicates BVCPS can meet the requirements prescribed by 29 CFR 1910.7 for expanding recognition to include the addition of the twenty-one test standards for NRTL testing and certification, as well as the two testing sites listed above. This preliminary finding does not constitute an interim or temporary approval of BVCPS's application.

OSHA welcomes public comment as to whether BVCPS meets the requirements of 29 CFR 1910.7 for expansion of recognition as a NRTL. Comments should consist of pertinent written documents and exhibits. Commenters needing more time to comment must submit a request in writing, stating the reasons for the request. Commenters must submit the written request for an extension by the due date for comments. OSHA will limit any extension to 10 days unless the requester justifies a longer period. OSHA may deny a request for an extension if the request is not adequately justified. To obtain or review copies of the exhibits identified in this notice, as well as comments submitted to the docket, contact the Docket Office, Occupational Safety and Health Administration, U.S. Department of Labor. These materials also are available online at http://www.regulations.gov under Docket No. OSHA-2009-0026.

OSHA staff will review all comments to the docket submitted in a timely manner. After addressing the issues raised by these comments, the agency will make a recommendation to the Assistant Secretary for Occupational Safety and Health whether to grant BVCPS's application for expansion of the scope of recognition. The Assistant Secretary will make the final decision on granting the application. In making this decision, the Assistant Secretary may undertake other proceedings prescribed in Appendix A to 29 CFR 1910.7.

OSHA will publish a public notice of its final decision in the Federal Register.

IV. Authority and Signature

Amanda L. Edens, Deputy Assistant Secretary of Labor for Occupational Safety and Health, 200 Constitution Avenue NW, Washington, DC 20210, authorized the preparation of this notice. Accordingly, the agency is issuing this notice pursuant to Section 29 U.S.C. 655(6)(d), Secretary of Labor's Order No. 8-2020 (85 FR 58393; Sept. 18, 2020), and 29 CFR 1905.11.

Signed at Washington, DC, on February 12, 2021.
Amanda L. Edens,
Deputy Assistant Secretary of Labor for Occupational Safety and Health.

[FR Doc. 2021-03650 Filed 2-22-21; 8:45 am]

BILLING CODE 4510-26-P